DEPARTMENT OF ENERGY

Federal Energy Regulatory Commission

[Project No. 13519-000]

Lock+ Hydro Friends Fund XIX, LLC; Notice of Preliminary Permit Application Accepted for Filing and Soliciting Comments, Motions To Intervene, and Competing Applications

December 10, 2009.

On June 18, 2009, Lock+ Hydro Friends Fund XIX, LLC filed an application for a preliminary permit, pursuant to section 4(f) of the Federal Power Act, proposing to study the feasibility of the Project Steel Curtain, which would be located at the U.S. Army Corps of Engineer's Claiborne Lock and Dam on the Alabama River near the town of Monroeville, Monroe County, AL. The sole purpose of a preliminary permit, if issued, is to grant the permit holder priority to file a license application during the permit term. A preliminary permit does not authorize the permit holder to perform any land disturbing activities or otherwise enter upon lands or waters owned by others without the owners' express permission.

The proposed project would consist of the following:

(1) One lock frame module consisting of nine 2,000 kilowatt turbines placed in a concrete-lined conduit of unknown dimensions. The module would be located adjacent to and east of the Corps dam; and (2) a proposed 69 kV transmission line approximately 4.0 miles long extending from the turbine units, and crossing the Alabama River to an existing distribution line located southeast of the dam. The 18 megawatt project would have an estimated annual generation of 15 gigawatt-hours.

Applicant Contact: Wayne F. Krouse; Hydro Green Energy, LLC; 5090 Richmond Avenue #390; Houston, TX 77056; phone: (877) 556-6566 x709.

FERC Contact: Monte TerHaar at monte.terhaar@ferc.gov or phone 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simple method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13519) in the docket number field to access the document. For assistance, contact FERC Online Support.

Kimberly D. Bose,
Secretary.

[FR Doc. E9-29921 Filed 12-15-09; 8:45 am]

BILLING CODE 6717-01-P